SMALL BUSINESS ADMINISTRATION

[Disaster Declaration # 10189]

Louisiana Disaster # LA-00003

AGENCY: U.S. Small Business Administration.

ACTION: Notice.

SUMMARY: This is a Notice of the Presidential declaration of a major disaster for Public Assistance Only for the State of Louisiana (FEMA-1601-DR), dated 08/23/2005.

Incident: Tropical Storm Cindy.

Incident Period: 07/05/2005 through 07/06/2005.

Effective Date: 08/23/2005.

Physical Loan Application Deadline Date: 10/24/2005.

ADDRESSES: Submit completed loan applications to: U.S. Small Business Administration, Disaster Area Office 3, 14925 Kingsport Road Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 08/23/2005, applications for Private Non-Profit organizations that provide essential services of a governmental nature may file disaster loan applications at the address listed above or other locally announced locations.

The following areas have been determined to be adversely affected by the disaster:

Primary Parishes:

Jefferson, Lafourche, Plaquemines, St. Bernard, St. Charles.

The Interest Rates are:

| Percent
Other (Including Non-Profit Organizations) With Credit Available Elsewhere | 4.750
Businesses and Non-Profit Organizations Without Credit Available Elsewhere | 4.000

The number assigned to this disaster for physical damage is #10189.

(Catalog of Federal Domestic Assistance Number 59008)

Cheri L. Cannon,
Acting Associate Administrator for Disaster Assistance.

[FR Doc. 05-18203 Filed 9-13-05; 8:45 am]

BILLING CODE 8025-01-P